DEPARTMENT OF AGRICULTURE

Agricultural Marketing Service

7 CFR Part 51

[Doc. No. FV-00-303 C]

Peaches, Plums, and Nectarines; Grade Standards

AGENCY: Agricultural Marketing Service, USDA.

ACTION: Final rule; correction.

SUMMARY: This document corrects final regulations published by the Agricultural Marketing Service (AMS) on February 27, 2004 [69 FR 9189] revising the United States Standards for Grades of Peaches. The rule incorrectly established a tolerance of 2 percent for soft, or overripe peaches en route or destination. This document corrects that error.

DATES: Effctive Date: May 21, 2004.

FOR FURTHER INFORMATION CONTACT: David Priester, Standardization Section, Fresh Products Branch, Fruit and Vegetable Programs, Agricultural Marketing Service, U.S. Department of Agriculture, 1400 Independence Avenue, SW., Room 1661 South Building, STOP 0240, Washington, DC 20250-0240, Fax (202) 720-8871 or call (202) 720-2185; e-mail David.Priester@usda.gov.

SUPPLEMENTARY INFORMATION:

Background

The final regulations that are the subject of this correction revised § 51.1214, Tolerances.

Need for Correction

As published, the regulatory text in paragraphs (a)(2)(ii) and (b)(2)(ii) of § 51.1214 inadvertently included soft and overripe peaches with the tolerance for decayed peaches. This document removes soft and overripe from the decay tolerance.

List of Subjects in 7 CFR Part 51

Agricultural commodities, Food grades and standards, Fruits, Nuts, Reporting and recordkeeping requirements, Trees, Vegetables.

PART 51—UNITED STATES STANDARDS FOR PEACHES

Accordingly, 7 CFR part 51 is amended by making the following corrections:

1. The authority citation for part 51 continues to read as follows:

Authority: 7 U.S.C. 1622, 1624.

2. In § 51.1214, paragraphs (a)(2)(ii) and (b)(2)(ii) are revised to read as follows:

§ 51.1214 Tolerances.

* * * * *

(a) * * *

(2) * * *

(ii) 7 percent for defects causing serious damage, included therein not more than 5 percent for serious damage by permanent defects and not more than 2 percent for decayed peaches.

* * * * *

(b) * * *

(2) * * *

(ii) 2 percent for peaches which are affected by decay.

Dated: May 17, 2004.
A.J. Yates,
Administrator, Agricultural Marketing Service.

[FR Doc. 04-11515 Filed 5-20-04; 8:45 am]

BILLING CODE 3410-02-P